DEPARTMENT OF HEALTH AND HUMAN SERVICES

Office of the Secretary

[Document Identifier: 0990-New-30D]

Agency Information Collection Activities; Submission to OMB for Review and Approval; Public Comment Request

AGENCY: Office of the Secretary, HHS.

ACTION: Notice.

SUMMARY: In compliance with the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before March 9, 2017.

ADDRESSES: Submit your comments to OIRA_submission@omb.eop.gov or via facsimile to (202) 395-5806.

FOR FURTHER INFORMATION CONTACT: Information Collection Clearance staff, Information.CollectionClearance@hhs.gov or (202) 690-5683.

SUPPLEMENTARY INFORMATION: When submitting comments or requesting information, please include the Information Collection Request Title and document identifier 0990-New-30D for reference.

Information Collection Request Title: Evaluating Supporting Nursing Moms at Work.

Abstract: The HHS Office on Women's Health (OWH) is seeking approval by OMB on a new Information Collection Request. A Section of the Affordable Care Act (ACA) requires employers to provide basic breastfeeding accommodations for nursing mothers at work. These include a functional space, other than a bathroom, that is shielded from view and intrusion from coworkers and reasonable break time for women to express milk. OWH implemented outreach to businesses and industries across the nation to determine perceived barriers to compliance to this requirement, and became acutely aware of the sparse amount of information and resources that target worksite lactation needs and challenges of these employers.

Based upon these findings, in June, 2014, the HHS Office on Women's Health (OWH) launched a national initiative to provide information, education and resources to employers on how to best support the needs of their nursing employees upon their return to the workplace. OWH particularly targeted challenging work environments. Supporting Nursing Moms at Work: Employer Solutions was developed as an on-line, searchable, solutions-oriented resource, housed on the OWH Web site, (www.womenshealth.gov). This resource features over 200 individual business profiles from companies in more than 34 U.S. States and demonstrates use of innovative methods and strategies to overcome time and space challenges.

OWH has contracted with LTG Associates to conduct formative research to evaluate the effectiveness, utility and impact of this on-line lactation worksite resource and to heighten visibility and identify opportunities for effective dissemination.

Need and Proposed Use of the Information: Information from the data collection will be used to update, integrate current issues and expand the on-line resource, “Supporting Nursing Mothers at Work: Employer Solutions,” housed on www.womenshealth.gov. Content to this on-line resource will be adjusted as necessary.

Likely Respondents: There are three primary audiences: Human resources managers, employers/supervisors of women who expressed breast milk at work; and employees—women who currently express or previously expressed milk at work.

Total Estimated Annualized Burden—Hours
Form name | Number of respondents | Number of responses per respondent | Average burden per response (in hours) | Total burden hours
Women who Expressed Milk at Work Interview Form | 60 | 1 | 1 | 60
HR Interview Form | 60 | 1 | 1 | 60
Employer/Supervisor Interview Form | 60 | 1 | 1 | 60
Total | 180 |  |  | 180

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Terry S. Clark,
Asst Information Collection Clearance Officer.

[FR Doc. 2017-02434 Filed 2-6-17; 8:45 am]

BILLING CODE 4150-33-P